DEPARTMENT OF ENERGY

Federal Energy Regulatory Commission

[Docket No. CP07-208-000]

Rockies Express Pipeline, LLC; Notice of Availability of the Draft Environmental Impact Statement for the Proposed REX East Project

November 23, 2007.

The staff of the Federal Energy Regulatory Commission (FERC or Commission) has prepared this draft Environmental Impact Statement (EIS) for the construction and operation of the natural gas pipeline facilities proposed by Rockies Express Pipeline LLC (Rockies Express) in the above-referenced docket. The Project facilities would be located in Wyoming, Nebraska, Missouri, Illinois, Indiana, and Ohio.

This draft EIS was prepared to satisfy the requirements of the National Environmental Policy Act (NEPA). The U.S. Army Corps of Engineers, U.S. Fish and Wildlife Service, Natural Resources Conservation Service, and Illinois Department of Agriculture are cooperating agencies for the development of the EIS. A cooperating agency has jurisdiction by law or special expertise with respect to potential environmental impacts associated with the proposal and is involved in the NEPA analysis.

The FERC staff concludes that if the Project is constructed and operated in accordance with applicable laws and regulations, and the project sponsor's proposed mitigation, and the staff's additional mitigation recommendations, it would have mostly limited adverse environmental impacts and would be an environmentally acceptable action.

As currently proposed, the Rockies Express (REX) East Project would consist of the construction and operation of approximately 639.1 miles of natural gas pipeline and a total of 225,716 horsepower (hp) of new compression. The REX East Project would be part of the Rockies Express Pipeline System—a 1,679-mile natural gas pipeline system that would extend from Colorado to Ohio. The Project pipeline would deliver up to 1.8 billion cubic feet per day of gas to other interstate natural gas pipelines. The Project would provide access to an additional 16 inter- and intra-state natural gas pipelines at 20 interconnect points. Specifically, the draft EIS addresses the potential environmental effects of the construction and operation of the following natural gas pipeline facilities proposed by Rockies Express:

• 639.1 miles of 42-inch-diameter natural gas pipeline in Missouri, Illinois, Indiana, and Ohio;

• Seven new compressor stations (Mexico Compressor Station in Audrain County, Missouri; Blue Mound Compressor Station in Christian County, Illinois; Bainbridge Compressor Station in Putnam County, Indiana; Hamilton Compressor Station in Butler County, Ohio; Chandlersville Compressor Station in Muskingum County, Ohio; Arlington Compressor Station in Carbon County, Wyoming; and Bertrand Compressor Station in Phelps County, Nebraska; and

• 20 meter stations and associated interconnecting pipeline facilities at 13 locations along the proposed pipeline route and 42 mainline valves.

Comment Procedures and Public Meetings

Any person wishing to comment on the draft EIS may do so. To ensure consideration prior to a Commission decision on the proposal, it is important that the Commission receive your comments before the date specified below. Please carefully follow these instructions to ensure that your comments are received and properly recorded:

• Send an original and two copies of your comments to: Kimberly D. Bose, Secretary, Federal Energy Regulatory Commission, 888 First Street, NE., Room 1A, Washington, DC 20426.

• Reference Docket No. CP07-208-000.

• Label one copy of the comments for the attention of Gas Branch 2.

• Mail your comments so that they will be received in Washington, DC on or before January 14, 2008.

The Commission strongly encourages electronic filing of any comments, interventions or protests to this proceeding. See 18 Code of Federal Register (CFR) 385.2001(a)(1)(iii) and the instructions on the Commission's Internet Web site (http://www.ferc.gov) under the “e-Filing” link and the link to the User's Guide. Before you can submit comments, you will need to create a free account, by clicking on “Sign-up” under “New User.” You will be asked to select the type of submission you are making. This type of submission is considered a “Comment on Filing.” Comments submitted electronically must be submitted by January 14, 2008.

In lieu of sending written comments, you are invited to attend public comment meetings the FERC has scheduled as follows:

January 7, 2008 6 p.m. to 10 p.m.

Lanphier High School, 1300 N 11th Street, Springfield, IL 62702, (217) 525-3080

Clark's Hall Reception Area, 2155 E U.S. Highway 36, Rockville, IN 47872, (765) 569-5794

Zanesville High School, 1701 Blue Avenue, Zanesville, OH 43701, (740) 588-4203

January 8, 2008 6 p.m. to 10 p.m.

Pittsfield High School, 201 E Higbee Street, Pittsfield, IL 62363, (217) 285-6888

Greensburg Jr. High School, 505 E Central Ave, Greensburg, IN 47240, (812) 663-7523

Teays Valley High School, 3887 St. Route 752, Ashville, OH 43103, (740) 983-3131

January 9, 2008 6 p.m. to 10 p.m.

Presser Hall, 900 South Jefferson Street, Mexico, MO, (573) 581-5592

Greenwood Community High School, 615 W Smith Valley Road, Greenwood, IN 46142, (317) 889-4000

Edgwood High School, 5005 Oxford State Rd, Trenton, OH 45067, (513) 867-7425

Interested groups and individuals are encouraged to attend and present oral comments on the draft EIS. Transcripts of the meetings will be prepared.

After the comments are reviewed, any significant new issues are investigated, and modifications are made to the draft EIS, a final EIS will be published and distributed by the FERC staff. The final EIS will contain the staff's responses to timely comments received on the draft EIS.

Comments will be considered by the Commission and cooperating agencies but will not serve to make the commentor a party to the proceeding. Any person seeking to become a party to the proceeding must file a motion to intervene pursuant to Rule 214 of the Commission's Rules of Practice and Procedures (18 CFR 385.214). Anyone may intervene in this proceeding based on this draft EIS. Only intervenors have the right to seek rehearing of the Commission's decision. You must file your request to intervene as specified above.¹ You do not need intervenor status to have your comments considered.

¹ Interventions may also be filed electronically via the Internet in lieu of paper. See the previous discussion on filing comments electronically.

The draft EIS has been placed in the public files of the FERC and is available for distribution and public inspection at:

Federal Energy Regulatory Commission, Public Reference Room, 888 First Street, NE., Room 2A, Washington, DC 20426, (202) 502-8371.

A limited number of hardcopies and CD-ROMs of the draft EIS are available from the FERC's Public Reference Room, identified above. This draft EIS is also available for public viewing on the FERC's Internet Web site at http://www.ferc.gov. CD-ROM copies of the draft EIS have been mailed to Federal, State, and local agencies; public interest groups; individuals and affected landowners who requested a copy of the draft EIS or provided comments during scoping; libraries and newspapers in the Project area; and parties to this proceeding. Hard copy versions of the draft EIS were mailed to those specifically requesting them.

Additional information about the project is available from the Commission's Office of External Affairs, at 1-866-208-FERC or on the FERC Internet Web site (http://www.ferc.gov) using the eLibrary link. Click on the eLibrary link, click on “General Search” and enter the docket number excluding the last three digits in the Docket Number (e.g. CP07-208). Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to the eSubscription link on the FERC Internet Web site.

Kimberly D. Bose,
Secretary.

[FR Doc. E7-23445 Filed 12-3-07; 8:45 am]

BILLING CODE 6717-01-P